DEPARTMENT OF AGRICULTURE

Natural Resources Conservation Service

Notice and Comment Period for the Natural Resources Conservation Service Revised Pest Management Policy

AGENCY: Natural Resources Conservation Service, USDA.

ACTION: Notice and request for comments.

SUMMARY: Notice is hereby given of the decision of the Natural Resources Conservation Service (NRCS) to adopt a revised policy for providing pest management technical assistance. This revised policy will be disseminated within the agency through updates of the agency's General Manual. It includes revision of existing policy in Title 450, Part 401, Subpart A, Technical Guides, Policy and Responsibilities and new policy in Title 190, Part 404, Ecological Sciences, Pest Management Policy. This policy will be implemented through the revision of the agency's conservation practice standards for Pest Management (595). This national conservation practice was developed to reflect the new policy.

DATES: This Federal Register notice will commence a 30-day comment period which will end May 31, 2000.

ADDRESSES: The revised policy can be viewed on the internet at: http://www.nhq.nrcs.usda.gov/BCS/pest/pest.html. Address requests and comments to: Lara Philbert, Natural Resources Conservation Service, P.O. Box 2890, Room 6158-S, Washington, DC 20013-2890.

FOR FURTHER INFORMATION CONTACT: Benjamin F. Smallwood, Natural Resources Conservation Service, (202) 720-7838; fax (202) 720-1814.

SUPPLEMENTARY INFORMATION: The Pest Management Policy is a document intended for NRCS employees as they provide technical assistance to landowners and land managers. Section 343 of the Federal Agriculture Improvement and Reform Act of 1996, requires NRCS to make available for public review and comment proposed revisions to conservation practice standards used to carry out the highly erodible land and wetland provisions of the law. This policy supports the conservation practice standard for Pest Management (Code 595), which is being prepared for publication in the Federal Register.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternative means for communication of program information (braille, large print, audio tape, etc.) should contact the USDA's Target Center at (202) 720-2600 (voice and TDD). To file a complaint of discrimination to USDA, write to the Director, Office of Civil Rights, Room 325-W, Whitten Building, 14th and Independence Avenue, SW, Washington, DC 20250-9410, or call (202) 720-5964 (voice and TDD).

Signed in Washington, DC, on April 21, 2000.
Danny D. Sells,
Associate Chief, Natural Resources Conservation Service.

[FR Doc. 00-10800 Filed 4-28-00; 8:45 am]

BILLING CODE 3410-16-U